NUCLEAR REGULATORY COMMISSION

[Docket No. 50-264; NRC-2012-0026]

Dow Chemical Company, Dow TRIGA Research Reactor; License Renewal for the Dow Chemical TRIGA Research Reactor; Supplemental Information and Correction

AGENCY: Nuclear Regulatory Commission.

ACTION: Notice; supplemental information and correction.

SUMMARY: The U.S. Nuclear Regulatory Commission (NRC) published a notice in the Federal Register on July 20, 2012 (77 FR 42771), “License Renewal for the Dow Chemical TRIGA Research Reactor,” to inform the public that the NRC is considering issuance of a renewed Facility License No. R-108 for Dow Chemical Company which would authorize continued operation of the Dow TRIGA Research Reactor. The notice provided the NRC staff's review of the Environmental Assessment and Finding of No Significant Impact for the Dow TRIGA Research Reactor. This action is necessary to (1) correct a typographical error in Section II.A., “Radiological Impact;” and (2) provide the public with supplemental information regarding the U.S. Court of Appeals Waste Confidence Ruling and NRC staff review of the ruling showing the non-applicability to research and test reactor licensing.

ADDRESSES: Please refer to Docket ID NRC-2012-0026 when contacting the NRC about the availability of information regarding this document. You may access information related to this document, which the NRC possesses and is publicly available, using any of the following methods:

• Federal Rulemaking Web site: Go to http://www.regulations.gov and search for Docket ID NRC-2012-0026. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Geoffrey A. Wertz, Office of Nuclear Reactor Regulation, U.S. Nuclear Regulatory Commission, Washington, DC 20555-0001; telephone 301-415-0893, email: Geoffrey.Wertz@nrc.gov.

SUPPLEMENTARY INFORMATION:

I. Correction

In the Federal Register (FR) of July 20, 2012, in FR Doc. 2012-17733, on page 42772, in the second column, first paragraph, second line, replace “retains” with “takes.”

II. Supplemental Information

On June 8, 2012, the U.S. Court of Appeals for the District of Columbia Circuit found that some aspects of the 2010 Waste Confidence Rulemaking did not satisfy the NRC's National Environmental Policy Act obligations and vacated the rulemaking. On August 7, 2012, the Commission directed the NRC staff not to issue any licenses dependent on the Waste Confidence Rule until the court's remand has been appropriately addressed. The NRC staff analyzed the Waste Confidence Rule (part 51.23 of Title 10 of the Code of Federal Regulations (10 CFR), “Temporary Storage of Spent Fuel after Cessation of Reactor Operation-Generic Determination of No Significant Environmental Impact”), as well as supplemental information, and concluded that 10 CFR 51.23 does not specifically refer to research and test reactors (RTRs), only to power reactors and independent spent fuel storage installations. As such, RTR licensing does not rely or depend on the Waste Confidence Rule. The NRC staff's memo documenting this review can be found in the NRC's Agencywide Documents Access and Management System under Accession No. ML13071A642.

Dated at Rockville, Maryland, this 1st day of May 2013.
For the Nuclear Regulatory Commission.
Alexander Adams, Jr.,
Chief, Research and Test Reactors Licensing Branch, Division of Policy and Rulemaking, Office of Nuclear Reactor Regulation.

[FR Doc. 2013-10927 Filed 5-7-13; 8:45 am]

BILLING CODE 7590-01-P